DEPARTMENT OF TRANSPORTATION

Federal Aviation Administration

Agency Information Collection Activities: Requests for Comments; Clearance of Renewed Approval of Information Collection: Maintenance, Preventative Maintenance, Rebuilding and Alteration

AGENCY: Federal Aviation Administration (FAA), DOT

ACTION: Notice and request for comments

SUMMARY: In accordance with the Paperwork Reduction Act of 1995, FAA invites public comments about our intention to request the Office of Management and Budget (OMB) approval to renew an information collection. FAR Part 43 prescribes the rules governing maintenance, rebuilding, and alteration of aircraft components, and is necessary to ensure this work is performed by qualified persons, and at proper intervals. This work is done by certified mechanics, repair stations, and air carriers authorized to perform major alterations and major repairs.

DATES: Written comments should be submitted by June 13, 2014.

FOR FURTHER INFORMATION CONTACT: Kathy DePaepe at (405) 954-9362, or by email at: Kathy.DePaepe@faa.gov.

SUPPLEMENTARY INFORMATION: OMB Control Number: 2120-0020

Title: Maintenance, Preventative Maintenance, Rebuilding and Alteration.

Form Numbers: FAA Form 337.

Type of Review: Renewal of an information collection.

Background: FAR Part 43 prescribes the rules governing maintenance, rebuilding, and alteration of aircraft components, and is necessary to ensure this work is performed by qualified persons, and at proper intervals. This work is done by certified mechanics, repair stations, and air carriers authorized to perform major alterations and major repairs. The information collection associated with FAR 43 is necessary to ensure that maintenance, rebuilding, or alteration of aircraft, aircraft components, etc., is performed by qualified individuals and at proper intervals. Further, proper maintenance records are essential to ensure that an aircraft is properly maintained and is mechanically safe for flight.

Respondents: An estimated 87,769 certified mechanics, repair stations, and air carriers authorized to perform maintenance.

Frequency: Information is collected as needed.

Estimated Average Burden per Response: 30 minutes to one hour per response.

Estimated Total Annual Burden: 34,125 hours.

ADDRESSES: Send comments to the FAA at the following address: Ms. Kathy DePaepe, Room 126B, Federal Aviation Administration, ASP-110, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on: April 8, 2014.
Albert R. Spence,
FAA Assistant Information Collection Clearance Officer, IT Enterprises Business Services Division, ASP-110.

[FR Doc. 2014-08366 Filed 4-11-14; 8:45 am]

BILLING CODE 4910-13-P